DEPARTMENT OF DEFENSE

GENERAL SERVICES ADMINISTRATION

NATIONAL AERONAUTICS AND SPACE ADMINISTRATION

[OMB Control No. 9000-0067; Docket No. 2024-0053; Sequence No. 18]

Information Collection; Certain Federal Acquisition Regulation Part 16 Contract Pricing Requirements

AGENCY: Department of Defense (DOD), General Services Administration (GSA), and National Aeronautics and Space Administration (NASA).

ACTION: Notice and request for comments.

SUMMARY: In accordance with the Paperwork Reduction Act of 1995, and the Office of Management and Budget (OMB) regulations, DoD, GSA, and NASA invite the public to comment on an extension concerning certain Federal Acquisition Regulation (FAR) part 16 contract pricing requirements. DoD, GSA, and NASA invite comments on: whether the proposed collection of information is necessary for the proper performance of the functions of Federal Government acquisitions, including whether the information will have practical utility; the accuracy of the estimate of the burden of the proposed information collection; ways to enhance the quality, utility, and clarity of the information to be collected; and ways to minimize the burden of the information collection on respondents, including the use of automated collection techniques or other forms of information technology. OMB has approved this information collection for use through April 30, 2025. DoD, GSA, and NASA propose that OMB extend its approval for use for three additional years beyond the current expiration date.

DATES: DoD, GSA, and NASA will consider all comments received by January 28, 2025.

ADDRESSES: DoD, GSA, and NASA invite interested persons to submit comments on this collection through https://www.regulations.gov and follow the instructions on the site. This website provides the ability to type short comments directly into the comment field or attach a file for lengthier comments. If there are difficulties submitting comments, contact the GSA Regulatory Secretariat Division at 202-501-4755 or GSARegSec@gsa.gov.

Instructions: All items submitted must cite OMB Control No. 9000-0067, Certain Federal Acquisition Regulation Part 16 Contract Pricing Requirements. Comments received generally will be posted without change to https://www.regulations.gov, including any personal and/or business confidential information provided. To confirm receipt of your comment(s), please check www.regulations.gov, approximately two-to-three days after submission to verify posting.

FOR FURTHER INFORMATION CONTACT: Zenaida Delgado, Procurement Analyst, at telephone 202-969-7207, or zenaida.delgado@gsa.gov.

SUPPLEMENTARY INFORMATION:

A. OMB Control Number, Title, and Any Associated Form(s)

9000-0067, Certain Federal Acquisition Regulation Part 16 Contract Pricing Requirements.

B. Need and Uses

This clearance covers the information that contractors must submit to comply with the following FAR requirements:

• FAR 52.216-2, Economic Price Adjustment—Standard Supplies; FAR 52.216-3, Economic Price Adjustment—Semistandard Supplies; and FAR 52.216-4, Economic Price Adjustment—Labor and Material. These clauses require contractors on contracts that provide for economic price adjustments to promptly notify the contracting officer of any increases or decreases to established prices or labor rates (including fringe) because of certain contingencies, such as increases or decreases to established catalog or market prices or changes to cost indexes for labor or materials.

The contracting officer uses the information provided by the contractor to negotiate price adjustments under the contract due to the contingency specified in the contract.

• FAR 52.216-5, Price Redetermination-Prospective. Paragraph (c) of this clause requires a contractor on a fixed-price contract with prospective price redetermination to submit to the Government (within an agreed upon timeframe) a statement of costs incurred for the most recent period of performance, the proposed prices for the upcoming contract period, and any supporting or relevant documentation. Per paragraph (h) of this clause, during periods where firm prices have not been established, the contractor must also submit quarterly statements that includes a breakdown of total contract prices, costs, and profit incurred and all invoices accepted for delivered items or services for which final prices have not been established.

The contracting officer uses the information to negotiate/redetermine fair and reasonable prices for supplies and services that may be delivered or performed under the contract in the period following the effective date of price redetermination.

• FAR 52.216-6, Price Redetermination—Retroactive. Paragraph (c) of this clause requires a contractor on a fixed-ceiling-price contract with retroactive price redetermination to submit to the Government (within an agreed upon timeframe after completion of the contract) the proposed prices, all costs incurred in performing the contract, and any supporting or relevant documentation. Per paragraph (g) of this clause, until final price redetermination has been completed, the contractor must also submit a quarterly statement that includes a breakdown of total contract prices, costs, and interim profit incurred and all invoices accepted for delivered items.

The contracting officer uses the information provided by the contractor to negotiate/redetermine fair and reasonable prices for supplies and services that have already been delivered or performed under the contract.

• FAR 52.216-16, Incentive Price Revision—Firm Target; and FAR 52.216-17, Incentive Price Revision—Successive Targets. These clauses require contractors on fixed price incentive (firm or successive target) contracts to submit to the Government on a quarterly basis a statement regarding total contract prices, costs, portions of interim profit, and amounts of invoices or vouchers for completed work that is cumulative from the beginning of the contract (see 52.216-16(g) and 52.216-17(i)). Upon final delivery of supplies or completion of services for covered line items, the contractor is required to submit a detailed statement of all costs incurred up to the end of that month in performing all work under the items; an estimate of costs of further performance, if any, that may be necessary to complete performance of all work under the items; a list of all residual inventory and an estimate of its value; and any other relevant data that the Contracting Officer may reasonably require (see 52.216-16(c) and 52.216-17(e)). Paragraph (c) of 52.216-17 also requires submission of data for establishing the firm fixed price or a final profit adjustment formula.

The contracting officer uses the information provided by the contractor to evaluate the contractor's performance in meeting the incentive target and to negotiate the final prices of incentive-related items and services.

C. Annual Burden

Respondents: 2,710.

Total Annual Responses: 45,260.

Total Burden Hours: 71,192.

Obtaining Copies: Requesters may obtain a copy of the information collection documents from the GSA Regulatory Secretariat Division by calling 202-501-4755 or emailing GSARegSec@gsa.gov. Please cite OMB Control No. 9000-0067, Certain Federal Acquisition Regulation Part 16 Contract Pricing Requirements.

William Clark,
Director, Office of Governmentwide Acquisition Policy, Office of Acquisition Policy, Office of Governmentwide Policy.

[FR Doc. 2024-28053 Filed 11-27-24; 8:45 am]

BILLING CODE 6820-EP-P